SMALL BUSINESS ADMINISTRATION

[Disaster Declaration #10178 and #10179]

Mississippi Disaster #MS-00005

AGENCY: Small Business Administration.

ACTION: Notice.

SUMMARY: This is a Notice of the Presidential declaration of a major disaster for the State of Mississippi (FEMA-1604-DR), dated 08/29/2005.

Incident: Hurricane Katrina.

Incident Period: 08/29/2005 and continuing.

Dates: Effective Date: 08/29/2005.

Physical Loan Application Deadline Date: 10/28/2005.

EIDL Loan Application Deadline Date: 05/29/2006.

ADDRESSES: Submit completed loan applications to: U.S. Small Business Administration, Disaster Area Office 3, 14925 Kingsport Road Fort, Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on 08/29/2005, applications for disaster loans may be filed at the address listed above or other locally announced locations.

The following areas have been determined to be adversely affected by the disaster:

Primary Counties:

Amite, Forrest, George Greene, Hancock, Harrison, Jackson, Lamar, Marion, Pearl River, Perry, Pike, Stone, Walthall, Wilkinson.

Contiguous Counties:

Mississippi: Adams, Covington, Franklin, Jefferson Davis, Jones, Lawrence, Lincoln, Wayne.

Alabama: Mobile, Washington.

Louisiana: Concordia, East Feliciana, St. Helena, St. Tammany, Tangipahoa, Washington, West Feliciana.

The Interest Rates are:

| Percent
Homeowners With Credit Available Elsewhere | 5.375
Homeowners Without Credit Available Elsewhere | 2.687
Businesses With Credit Available Elsewhere | 6.557
Businesses & Small Agricultural Cooperatives Without Credit Available Elsewhere | 4.000
Other (Including Non-Profit Organizations) With Credit Available Elsewhere | 4.750
Businesses and Non-Profit Organizations Without Credit Available Elsewhere | 4.000

The number assigned to this disaster for physical damage is 101788 and for economic injury is 101790.
(Catalog of Federal Domestic Assistance Numbers 59002 and 59008)
Herbert L. Mitchell,
Associate Administrator for Disaster Assistance.

[FR Doc. 05-17685 Filed 9-6-05; 8:45 am]

BILLING CODE 8025-01-P